DEPARTMENT OF TRANSPORTATION

Federal Motor Carrier Safety Administration

[Docket No. FMCSA-2006-26367]

Motor Carrier Safety Advisory Committee Report

AGENCY: Federal Motor Carrier Safety Administration (FMCSA), DOT.

ACTION: Notice of Motor Carrier Safety Advisory Committee Report.

SUMMARY: The FMCSA announces that its Motor Carrier Safety Advisory Committee (MCSAC) issued a report to the Agency on September 2, 2009, concerning Task 09-03 regarding improving the existing processes, procedures, and requirements for ensuring that new entrant motor carriers are knowledgeable about Federal safety regulations prior to beginning operations in interstate commerce.

FOR FURTHER INFORMATION CONTACT: Mr. Jeffrey Miller, Chief, Strategic Planning and Program Evaluation Division, Office of Policy Plans and Regulation, Federal Motor Carrier Safety Administration, U.S. Department of Transportation, 1200 New Jersey Avenue, SE., Washington, DC 20590, (202) 366-1258, mcsac@dot.gov.

SUPPLEMENTARY INFORMATION: On May 20, 2009, the MCSAC unanimously accepted Task 09-03: Provide advice to FMCSA on approaches that could be implemented to improve the existing processes, procedures, and requirements for ensuring that new entrant motor carriers are knowledgeable about Federal motor carrier safety mandates prior to beginning operations in interstate commerce. The MCSAC established a workgroup to address the task. The workgroup met in person from August 31, 2009, through September 2, 2009. On September 2, 2009, the workgroup presented its report to MCSAC for review and approval. The MCSAC unanimously approved the report on September 2, 2009. The report provides advice to FMCSA on approaches or strategies the Agency should consider for ensuring that new entrant motor carriers are knowledgeable about the Federal Motor Carrier Safety Regulations and Hazardous Materials Regulations, and have the ability to implement and maintain safety management controls and a safety culture in the workplace to achieve full compliance with the regulations and minimize the risks of crashes. The report was submitted to FMCSA on September 2, 2009, and can be viewed at the MCSAC Web site at http://mcsac.fmcsa.dot.gov. The report has also been posted to the rulemaking docket FMCSA 2001-11061, concerning FMCSA's August 25, 2009, Advance Notice of Proposed Rulemaking which requests public comment on the methods the Agency should consider implementing to assure that new applicant carriers are knowledgeable about Federal safety regulations prior to beginning operations in interstate commerce.

Issued on: September 17, 2009.
Larry W. Minor,
Associate Administrator for Policy and Program Development.

[FR Doc. E9-23200 Filed 9-24-09; 8:45 am]

BILLING CODE 4910-EX-P